NATIONAL FOUNDATION ON THE ARTS AND HUMANITIES

Cooperative Agreement for the Creation of a Toolbox for Individual Artists

AGENCY: National Endowment for the Arts.

ACTION: Notification of availability.

SUMMARY: The National Endowment for the Arts is requesting proposals leading to one (1) award of a Cooperative Agreement to compile a Toolbox is intended to assist individual artists in carrying out the business aspects of their careers. Toolbox topics will include financial management, law, marketing, and insurance, and the Toolbox will contain sample forms, checklists, references, and procedures. Completion of the project is contemplated in one year. Those interested in receiving the Solicitation package should reference Program Solicitation PS 01-02 in their written request and include two (2) self-addressed labels. Verbal requests for the Solicitation will not be honored. It is anticipated that the Program Solicitation will also be posted on the Endowment's Web site at http://www.arts.gov.

DATES: Program Solicitation PS 01-02 is scheduled for release approximately August 6, 2001 with proposals due on September 4, 2001.

ADDRESSES: Requests for the Solicitation should be addressed to the National Endowment for the Arts, Grants & Contracts Office, Room 618, 1100 Pennsylvania Ave., NW, Washington, D.C. 20506.

FOR FURTHER INFORMATION CONTACT: William Hummel, Grants & Contracts Office, National Endowment for the Arts, Room 618, 1100 Pennsylvania Ave., NW, Washington, D.C. 20506 (202)/682-5482).

William I. Hummel,
Coordinator, Cooperative Agreements.

[FR Doc. 01-17885 Filed 7-17-01; 8:45 am]

BILLING CODE 7537-01-M